NATIONAL FOUNDATION ON THE ARTS AND THE HUMANITIES

National Endowment for the Arts; President's Committee on the Arts and the Humanities: Meeting #60

Pursuant to Section 10(a)(2) of the Federal Advisory Committee Act (Pub. L. 92-463), as amended, notice is hereby given that a meeting of the President's Committee on the Arts and the Humanities (PCAH) will be held on November 9, 2006, from 2:30 p.m. to 5 p.m. (ending time is tentative). The meeting will be held in the Mt. Vernon, Salon A at the Madison Hotel, 15th and M Streets, NW., Washington, DC 20005.

The Committee meeting will begin with a welcome, introductions, and announcements. Updates on Committee programs and activities will follow, including a report on youth arts and humanities projects, specifically the Coming Up Taller program. Reports are anticipated from the Chairmen of the National Endowment for the Humanities (NEH) and the National Endowment for the Arts (NEA) and the Director of the Institute for Museum and Library Services. Frank Hodsoll, program consultant and former Chairman of the NEA, will make a presentation on project development activity that followed the PCAH's Symposium on Film, Television, Digital Media, and Popular Culture at its most recent Los Angeles meeting. Karen Elias, Acting General Counsel, NEA, will present the annual ethics briefing for members. The meeting will adjourn after discussion of other business, as necessary, and closing remarks.

The President's Committee on the Arts and the Humanities was created by Executive Order in 1982, which currently states that the “Committee shall advise, provide recommendations to, and assist the President, the National Endowment for the Arts, the National Endowment for the Humanities, and the Institute of Museum and Library Services on matters relating to the arts and the humanities.”

Any interested persons may attend as observers, on a space available basis, but seating is limited. Therefore, for this meeting, individuals wishing to attend are advised to contact Jenny Schmidt of the President's Committee seven (7) days in advance of the meeting at (202) 682-5560 or write to the Committee at 1100 Pennsylvania Avenue, NW., Suite 526, Washington, DC 20506. Further information with reference to this meeting can also be obtained from Ms. Schmidt.

If you need special accommodations due to a disability, please contact Ms. Schmidt through the Office of AccessAbility, National Endowment for the Arts, 1100 Pennsylvania Avenue, NW., Suite 724, Washington, DC 20506, (202) 682-5532, TDY-TDD (202) 682-5560, at least seven (7) days prior to the meeting.

Dated: October 12, 2005.
Kathy Plowitz-Worden,
Panel Coordinator, Panel Operations, National Endowment for the Arts.

[FR Doc. E6-17617 Filed 10-20-06; 8:45 am]

BILLING CODE 7537-01-P